NATIONAL FOUNDATION ON THE ARTS AND THE HUMANITIES

National Endowment for the Arts; Arts Advisory Panel

Pursuant to section 10(a)(2) of the Federal Advisory Committee Act (Pub. L. 92-463), as amended, notice is hereby given that six meetings of the Arts Advisory Panel to the National Council on the Arts will be held at the Nancy Hanks Center, 1100 Pennsylvania Avenue, NW., Washington, DC 20506 as follows (ending times are approximate):

Opera (application review): August 1-2, 2006 in Room 714. This meeting, from 9 a.m. to 6 p.m. on August 1st and from 9 a.m. to 5:30 p.m. on August 2nd, will be closed.

Opera (application review): August 3, 2006 in Room 716. A portion of this meeting, from 1 p.m. to 2:30 p.m., will be open to the public for a roundtable discussion, “40 Years of NEA Support to the Field of Opera.” The remainder of this meeting, from 9 a.m.-1 p.m. and from 2:30 p.m.-5 p.m., will be closed.

Museums (application review): August 1-4, 2006 in Room 716. This meeting, from 9 a.m. to 5:30 p.m. on August 1st-3rd and from 9 a.m. to 3 p.m. on August 4th, will be closed.

Theater (application review): August 1-4, 2006 in Room 730. This meeting, from 9 a.m. to 5 p.m. on August 1st-3rd and from 9 a.m. to 3 p.m. on August 4th, will be closed.

Literature (application review): August 9-11, 2006 in Room 714. A portion of this meeting, from 12 p.m.-1 p.m. on August 11th, will be open to the public for a policy discussion. The remainder of the meeting, from 9 a.m. to 6 p.m. on August 9th-10th, from 9 a.m. to 12 p.m. and from 1 p.m. to 4:30 p.m. on August 11th, will be closed.

AccessAbility (application review): August 28, 2006. This meeting, which will be held by teleconference from 2 p.m.-3 p.m., will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: July 12, 2006.
Kathy Plowitz-Worden,
Panel Coordinator, Panel Operations, National Endowment for the Arts.

[FR Doc. E6-11301 Filed 7-17-06; 8:45 am]

BILLING CODE 7537-01-P